DEPARTMENT OF ENERGY

Federal Energy Regulatory Commission

[Project No. 15329-000]

Ocean Renewable Power Company, Inc.; Notice of Preliminary Permit Application Accepted for Filing and Soliciting Comments, Motions To Intervene, and Competing Applications

a. On October 20, 2023, Ocean Renewable Power Company, Inc., filed an application for a preliminary permit, pursuant to section 4(f) of the Federal Power Act (FPA), proposing to study the feasibility of the Buffalo-Niagara Hydrokinetic Project No. 15329 (project), to be located on the Niagara River in the City of Buffalo, Erie County, New York. The sole purpose of a preliminary permit, if issued, is to grant the permit holder priority to file a license application during the permit term. A preliminary permit does not authorize the permit holder to perform any land-disturbing activities or otherwise enter upon lands or waters owned by others without the owners' express permission.

b. Project Description: The proposed project would consist of the following: (1) up to 265 turbine-generators, including RivGen and Modular RivGen hydrokinetic turbine-generators with a combined installed capacity of 5 megawatts; (2) a mooring system to anchor each turbine-generator to the riverbed; (3) an approximately 3,365-foot-long bundled data line and 750-volt generator lead line that connect the turbine-generators to a 20-foot-long, 8-foot-wide onshore station; (4) a 12.5- to 25-kilovolt transmission line and transformer that connect the onshore station to an adjacent electric distribution line owned by National Grid; and (5) appurtenant facilities. The estimated annual generation of the project would be up to 42,050 megawatt-hours.

c. Applicant Contact: Mr. Nathan Johnson, Ocean Renewable Power Company, Inc., 254 Commercial Street, Suite 119B, Portland, Maine 04101; telephone at (207) 772-7707; email at njohnson@orpc.co.

d. FERC Contact: Joshua Dub, Project Coordinator, Great Lakes Branch, Division of Hydropower Licensing; telephone at (202) 502-8138; email at Joshua.Dub@ferc.gov.

e. The preliminary permit application has been accepted for filing.

f. Deadline for filing comments, motions to intervene, competing applications (without notices of intent), or notices of intent to file competing applications: 60 days from the issuance of this notice, June 17, 2024.

Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15329-000.

g. The Commission's Office of Public Participation (OPP) supports meaningful public engagement and participation in Commission proceedings. OPP can help members of the public, including landowners, environmental justice communities, Tribal members and others, access publicly available information and navigate Commission processes. For public inquiries and assistance with filings such as interventions, comments, or requests for rehearing, the public is encouraged to contact OPP at (202)502-6595 or OPP@ferc.gov.

h. More information about this project, including a copy of the application, can be viewed on the Commission's website (http://www.ferc.gov) using the “eLibrary” link. Enter the docket number (P-15329) in the docket number field to access the document. For assistance, please contact FERC Online Support.

Dated: April 18, 2024.
Debbie-Anne A. Reese,
Acting Secretary.

[FR Doc. 2024-08776 Filed 4-23-24; 8:45 am]

BILLING CODE 6717-01-P